DEPARTMENT OF TRANSPORTATION

Federal Aviation Administration

14 CFR Part 39

[Docket No. FAA-2010-0611; Directorate Identifier 2009-SW-18-AD; Amendment 39-16487; AD 2010-22-08]

RIN 2120-AA64

Airworthiness Directives; Eurocopter France Model AS 350 B, BA, B1, B2, B3, and D, and Model AS355 E, F, F1, F2, and N Helicopters

AGENCY: Federal Aviation Administration, DOT.

ACTION: Final rule.

SUMMARY: We are adopting a new airworthiness directive (AD) for the Eurocopter France Model AS 350 B, BA, B1, B2, B3, and D, and Model AS355 E, F, F1, F2, and N helicopters, with certain main rotor servo-controls and tail rotor servo-controls. This AD requires replacing all servo-controls that are identified in the Applicability section of this AD. This AD is prompted by an internal review conducted by the manufacturer which revealed that some main and tail rotor servo-controls do not conform to the approved design. The actions specified by this AD are intended to prevent the distributor slide valve jamming in its sleeve, leading to reduced controllability of the rotors and subsequent loss of control of the helicopter.

DATES: Effective November 26, 2010.

ADDRESSES: You may get the service information identified in this AD from American Eurocopter Corporation, 2701 Forum Drive, Grand Prairie, Texas 75053-4005, telephone (972) 641-3460, fax (972) 641-3527.

Examining the Docket: You may examine the docket that contains this AD, any comments, and other information on the Internet at http://www.regulations.gov or at the Docket Operations office, West Building Ground Floor, Room W12-140, 1200 New Jersey Avenue, SE., Washington, DC.

FOR FURTHER INFORMATION CONTACT: J. R. Holton, Aviation Safety Engineer, FAA, Rotorcraft Directorate, Regulations and Guidance Group, ASW-111, 2601 Meacham Blvd., Fort Worth, Texas 76137, telephone (817) 222-4964, fax (817) 222-5961.

SUPPLEMENTARY INFORMATION:

Discussion

We issued a Notice of Proposed Rulemaking (NPRM) to amend 14 CFR part 39 to include an AD that would apply to the Eurocopter France Model AS 350 B, BA, B1, B2, B3, and D, and Model AS355 E, F, F1, F2, and N helicopters on June 9, 2010. That NPRM was published in the Federal Register on June 16, 2010 (75 FR 34062). That NPRM proposed to require replacing all servo-controls that are identified in the Applicability section of the proposed AD. The NPRM was prompted by an internal review conducted by the manufacturer which revealed that some main and tail rotor servo-controls do not conform to the approved design. The actions specified by the NPRM are intended to prevent the distributor slide valve jamming in its sleeve, leading to reduced controllability of the rotors and subsequent loss of control of the helicopter.

The European Aviation Safety Agency (EASA), which is the Technical Agent for the Member States of the European Community, has issued EASA Emergency AD No. 2007-0141-E, dated May 21, 2007, to correct an unsafe condition for certain Eurocopter France Model AS 350 B, BA, BB, B1, B2, B3, and D, and Model AS355 E, F, F1, F2, and N helicopters. EASA advises that “an internal review revealed that some main and tail rotor servo-controls do not conform to the approved design. This results in a greater play in the input lever bearing which could lead to off-centered lever/distributor slide valve. If not corrected, this condition could jam the distributor slide valve in its sleeve, contributing to reduced controllability of the rotors.”

Related Service Information

Eurocopter has issued Emergency Alert Service Bulletin (EASB) No. 01.00.58, applicable to Model AS 350 B, BA, BB, B1, B2, B3, and D helicopters, and EASB No. 01.00.53, applicable to Model AS355 E, F, F1, F2, and N helicopters, both Revision 1 and both dated April 19, 2007, “to preclude the risk of jamming of the distributor slide valve in its sleeve, due to excessive play in the bearing of the servo-control input lever.” Both EASB 01.00.58 and 01.00.53, along with 01.00.22 and 01.00.23 for various military model helicopters are contained in the same EASB document. The EASA classified these EASBs as mandatory and issued EASA Emergency AD No. 2007-0141-E, dated May 21, 2007, to ensure the continued airworthiness of these helicopters.

FAA's Evaluation and Unsafe Condition Determination

These products have been approved by the aviation authority of France and are approved for operation in the United States. Pursuant to our bilateral agreement with France, EASA, their technical representative, has notified us of the unsafe condition described in the EASA AD. We are issuing this AD because we evaluated all information provided by EASA and determined the unsafe condition exists and is likely to exist or develop on other products of these same type designs. This AD requires replacing all servo-controls with serial numbers that are in the Applicability section of this AD.

Differences Between This AD and the EASA AD

This AD does not require returning servo-controls to the manufacturer for return to conformity. This AD does not require inspecting for the existence of “hard points” in the flight controls since this is accomplished during normal pre-flight run-up control checks.

Comments

By publishing the NPRM, we gave the public an opportunity to participate in developing this AD. However, we received no comment on the NPRM or on our determination of the cost to the public. Therefore, based on our review and evaluation of the available data, we have determined that air safety and the public interest require adopting the AD as proposed, with one minor correction. Note 1 of the NPRM did not contain the revision level and dates of the EASB; this AD corrects that oversight. We have determined that this change neither increases the economic burden on any operator nor increases the scope of the AD.

Costs of Compliance

We estimate that this AD will affect about 56 helicopters of U.S. registry. We also estimate that it will take about 1.5 work-hours per helicopter to replace a servo-control identified in the Applicability section of this AD. The average labor rate is $85 per work-hour. Required parts will cost about $16,500 per helicopter. Based on these figures, we estimate that the cost of this AD on U.S. operators is $931,140 for the entire fleet, or $16,628 per helicopter.

Regulatory Findings

We have determined that this AD will not have federalism implications under Executive Order 13132. This AD will not have a substantial direct effect on the States, on the relationship between the national Government and the States, or on the distribution of power and responsibilities among the various levels of government.

For the reasons discussed above, I certify that the regulation:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD. See the AD docket to examine the economic evaluation.

Authority for This Rulemaking

Title 49 of the United States Code specifies the FAA's authority to issue rules on aviation safety. Subtitle I, section 106, describes the authority of the FAA Administrator. Subtitle VII, Aviation Programs, describes in more detail the scope of the Agency's authority.

We are issuing this rulemaking under the authority described in subtitle VII, part A, subpart III, section 44701, “General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

List of Subjects in 14 CFR Part 39

Air transportation, Aircraft, Aviation safety, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding a new airworthiness directive to read as follows:

2010-22-08 Eurocopter France: Amendment 39-16487; Docket No. FAA-2010-0611; Directorate Identifier 2009-SW-18-AD.

Applicability: Model AS 350 B, BA, B1, B2, B3, and D, and Model AS355 E, F, F1, F2, and N helicopters, with a main rotor or tail rotor servo-control identified in Table 1, installed, certificated in any category.

Table 1
Component | Part No. (P/N) | Serial No. (S/N)
Main rotor servo-control | P/N SC5083 | S/N 270M, 272M, 409M, 423M, 452M, or 1573.
| P/N SC5083-1 | S/N 2902 through 2921, inclusive.
| P/N 5084 | S/N 30, 84, 104, 186, 438, 575, or 695.
| P/N 5084-1 | S/N 1462 through 1481, inclusive.
Tail rotor servo-control | P/N SC5072 | S/N 222M, 306M, or 309.

Compliance: Required, as indicated.

To prevent the distributor slide valve jamming in its sleeve, leading to reduced controllability of the rotors and subsequent loss of control of the helicopter, accomplish the following:

(a) Within the next 50 hours time-in-service (TIS), or when a “hard point” is detected in the flight controls, whichever occurs earlier, replace each installed servo control that has a serial number listed in Table 1 of this AD, with an airworthy servo control.

Note 1: Eurocopter EASB No. 01.00.58 and No. 01.00.53, both Revision 1, and dated April 19, 2007, which are not incorporated by reference, contain additional information about the subject of this AD.

(b) To request a different method of compliance or a different compliance time for this AD, follow the procedures in 14 CFR 39.19. Contact the Manager, Safety Management Group, Rotorcraft Directorate, FAA, ATTN: J. R. Holton, Aviation Safety Engineer, Regulations and Policy Group, ASW-111, 2601 Meacham Blvd., Fort Worth, Texas 76137, telephone (817) 222-4964, fax (817) 222-5961, for information about previously approved alternative methods of compliance.

(c) The Joint Aircraft System/Component (JASC) Code is 6730: Rotorcraft Servo System.

(d) This amendment becomes effective on November 26, 2010.

Note 2: The subject of this AD is addressed in European Aviation Safety Agency (France) Emergency AD No. 2007-0141-E, dated May 21, 2007.

Issued in Fort Worth, Texas, on October 12, 2010.
Kim Smith,
Manager, Rotorcraft Directorate, Aircraft Certification Service.

[FR Doc. 2010-26565 Filed 10-21-10; 8:45 am]

BILLING CODE 4910-13-P